DEPARTMENT OF THE TREASURY

Internal Revenue Service

[REG-208172-91]

Proposed Collection; Comment Request for Regulation Project; Correction

AGENCY: Internal Revenue Service (IRS), Treasury.

ACTION: Correction to notice and request for comments.

SUMMARY: This document contains a correction to a notice and request for comments that was published in the Federal Register on Friday, May 29, 2009 at 74 FR 25802 inviting the general public and other Federal Agencies to take this opportunity to comment on proposed and/or continuing information collections, as required by the Paperwork Reduction Act of 1995, Public Law 104-13 (44 U.S.C. 3506(c)(2)(A)).

FOR FURTHER INFORMATION CONTACT: Requests for additional information or regulations should be directed to Allan Hopkins at (202) 622-6665, or at Internal Revenue Service, Room 6129, 1111 Constitution Avenue, NW., Washington, DC 20224, or through the Internet, at Allan.M.Hopkins@irs.gov.

SUPPLEMENTARY INFORMATION:

Background

The notice and request for comments that is the subject of this correction is required by the Paperwork Reduction Act of 1995, Public Law 104-13 (44 U.S.C. 3506(c)(2)(A)).

Need for Correction

As published, the notice and request for comments for Proposed Collection; Comment Request for Regulation Project (REG-208172-91) contains an error that may prove to be misleading and is in need of clarification.

Correction of Publication

Accordingly, the publication of the notice and request for comments for Proposed Collection; Comment Request for Regulation Project (REG-208172-91), which was the subject of FR Doc. E9-12454, is corrected as follows:

On page 25802, column 3, under the caption DATES:, line 2, the language “received on or before May 30, 2006 to” is corrected to read “received on or before July 30, 2009 to”.

LaNita Van Dyke,
Chief, Publications and Regulations Branch, Legal Processing Division, Associate Chief Counsel (Procedure and Administration).

[FR Doc. E9-13243 Filed 6-5-09; 8:45 am]

BILLING CODE 4830-01-P